DEPARTMENT OF STATE

[Public Notice 10616]

Certification Pursuant to Section 704 I(F)(3) of the Department of State, Foreign Operations, and Related Programs Appropriations Act, 2018

By virtue of the authority vested in me under section 7041(f)(3) of the Department of State, Foreign Operations, and Related Programs Appropriations Act, 2018 (Div. K, Pub. L. 115-141) (SFOAA) and Department of State Delegation of Authority 245-2, I hereby certify that all practicable steps have been taken to ensure that mechanisms are in place for monitoring, oversight, and control of funds made available by section 7041(f) of the SFOAA for assistance for Libya.

This certification shall be published in the Federal Register and, along with the accompanying Memorandum of Justification, shall be reported to Congress.

Dated: September 20, 2018.
John J. Sullivan,
Deputy Secretary of State.

[FR Doc. 2018-25563 Filed 11-21-18; 8:45 am]

BILLING CODE 4710-31-P